DEPARTMENT OF THE INTERIOR

Bureau of Reclamation

[DES-00-417]

East Bay Municipal Utility District Supplemental Water Supply Project

AGENCY: Bureau of Reclamation, Interior.

ACTION: Notice of availability of draft recirculated environmental impact report/supplemental environmental impact statement (REIR/SEIS).

SUMMARY: Pursuant to the National Environmental Policy Act (NEPA) and the California Environmental Quality Act, the Bureau of Reclamation (Reclamation) and the East Bay Municipal Utility District (EBMUD) have prepared a joint REIR/SEIS for the East Bay Municipal Utility District Supplemental Water Supply Project. Reclamation and EBMUD originally prepared a draft environmental impact report/draft environmental impact statement (DEIR/DEIS) for the proposed project in November 1997.

The proposed action is for EBMUD to obtain a supplemental water supply to help reduce customer deficiencies during droughts, and provide system reliability and to allow EBMUD to use its existing contract with Reclamation for delivery of water from the American River.

DATES: The REIR/SEIS will be available for a 45-day public review period. Comments are due on November 20, 2000. Public hearings on the REIR/SEIS will be held on October 17, 2000 from 7 p.m. to 9 p.m. in Sacramento and on October 19, 2000 from 7 p.m. to 9 p.m. in Oakland.

ADDRESSES: The public hearings will be held at the Sacramento Red Lion Inn, Yosemite Room, 1401 Arden Way, Sacramento, CA and at the EBMUD Office, 375 11th Street, Oakland CA 94623.

Copies of the REIR/SEIS may be requested from Mr. Kurt Ladensack, Water Supply Improvements Division, EBMUD, P.O. Box 24055, MS #305, Oakland, CA 94623, telephone (510) 287-1197.

See Supplementary Information section for locations where copies of the REIR/SEIS are available for inspection.

FOR FURTHER INFORMATION CONTACT: Mr. Robert Schroeder, Environmental Specialist, U.S. Bureau of Reclamation, Central California Area Office, 7794 Folsom Dam Road, Folsom, CA 95630, telephone (916) 988-1707, or Mr. Kurt Ladensack, Water Supply Improvements Division, EBMUD, P.O. Box 24055, MS #305, Oakland, CA 94623, telephone (510) 287-1197.

SUPPLEMENTARY INFORMATION: The U.S. Bureau of Reclamation (Reclamation) and the East Bay Municipal Utility District (EBMUD) have prepared an REIR/SEIS for the East Bay Municipal Utility District Supplemental Water Supply Project. Reclamation and EBMUD originally prepared a draft environmental impact report/draft environmental impact statement (DEIR/DEIS) for the proposed project in November 1997.

EBMUD currently holds a contract with Reclamation, signed in 1970, for delivery of up to 150,000 acre-feet per year from the existing Folsom South Canal (FSC). The existing contract specifies a delivery location at an existing turnout structure near Grant Line Road in Sacramento County. The proposed action is for EBMUD to obtain a supplemental water supply to help in reducing customer deficiencies during droughts, and providing system reliability and to allow EBMUD to use its existing contract with Reclamation for delivery of water from the American River. Two primary alternatives were considered in the 1997 DEIR/DEIS, and alternate project configurations of one of these primary alternatives were also considered.

The first alternative considered in the 1997 DEIR/DEIS was an EBMUD-only project that involves deliveries from the American River via FSC to a new pipeline connection between FSC in south Sacramento County and EBMUD's Mokelumne Aqueducts in San Joaquin County. Alternate project alternatives considered would involve pipeline connections from the turnout location described above, which would not require an amendment of the existing water service contract, and from the terminus of FSC, which would require an amendment of the water service contract.

The second alternative considered in the 1997 DEIR/DEIS involves a joint project between EBMUD, the City of Sacramento (City), and the County of Sacramento (County). Under this project alternative, water for EBMUD and the County would be delivered through a new intake location on the American River near its confluence with the Sacramento River, which would require an amendment of the water service contract. The City and County have subsequently indicated that they are not interested in pursuing such a joint project.

During public review of the 1997 DEIR/DEIS, EBMUD and Reclamation received a number of comments. In particular, some commenters focused on the range of alternatives considered in detail in the 1997 DEIR/DEIS, and on certain impact assessment methodologies related to water temperatures and fishery resources. After reviewing these comments, EBMUD and Reclamation have decided to prepare this REIR/SEIS to address these specific comments.

This REIR/SEIS describes the environmental effects of taking delivery of water under EBMUD's contract from the lower American River near its confluence with the Sacramento River, two locations on the Sacramento River between its confluence with the American River and Freeport, California, and the Bixler location in the Sacramento-San Joaquin River Delta. Emphasis is directed toward potential effects related to American River fisheries, endangered species, CVP water users, pipeline construction, and biological resources in the EBMUD service area.

Reclamation and EBMUD are releasing the REIR/SEIS for a 45-day public review period, after which the Final EIR/EIS will be prepared and released to the public. After the required 30-day waiting period, Reclamation will be preparing a Record of Decision (ROD) and EBMUD will be preparing a Notice of Determination, both of which will state the action that will be implemented and will discuss all factors leading to the respective decision of each agency. When an alternative is selected and the ROD is signed, Reclamation and EBMUD will resume negotiations on the amendatory contract to develop contract terms that more accurately reflect the selected alternative.

Copies of the REIR/SEIS are available for inspection at the following locations:

• East Bay Municipal Utility District at 375 Eleventh Street in Oakland CA 94607-4240.

• Sacramento County Water Agency at 827 Seventh Street, Room 301 in Sacramento CA 95814.

• City of Sacramento Utilities Department at 5770 Freeport Boulevard, Suite 100 in Sacramento CA 95822.

• Sacramento County Clerk-Recorder's Office at 600 Eighth Street in Sacramento CA 95814.

• Bureau of Reclamation, Office of Public Affairs at 2800 Cottage Way in Sacramento CA 95825.

• Bureau of Reclamation, Folsom Area Office at 7794 Folsom Dam Road in Folsom CA 95630.

• Library, Bureau of Reclamation at 6th Avenue and Kipling, Room 167, Building 67, Denver Federal Center in Denver CO 80225-0007.

• Natural Resources Library, U.S. Department of the Interior at 1849 C Street NW, Main Interior Building in Washington DC 20240-0001.

• Sacramento Central Library at 828 I Street in Sacramento CA.

• Lodi Public Library at 201 W. Locust Street in Lodi CA 95240

• Caesar Chavez Central Library at 605 N. El Dorado Street in Stockton CA 95202.

• Science, Social Science & Government Documents Department, Oakland Public Library at 125 14th Street in Oakland CA 94612.

• Contra Costa County Clerk's Office at 730 Las Juntas in Martinez CA 94553.

• Alameda County Clerk's Office at 1225 Fallen Street in Oakland CA 94612.

• San Joaquin County Clerk's Office at 24 S. Hunter, Room 304 in Stockton CA 95202.

• Elk Grove Branch Library at 8962 Elk Grove Boulevard in Elk Grove CA 95624.

• Rancho Cordova Community Library at 9845 Folsom Boulevard in Rancho Cordova CA 95827.

• Herald Fire Station at 12746 Ivie Road in Herald CA 95638.

• Galt Branch Library at 1000 Caroline Avenue in Galt CA 95632.

• Tracy Public Library at 20 E. Eaton Avenue in Tracy CA 95376.

• Amador Public Library at 25 East Main in Ione CA 95640.

• Calaveras County Central Library at 891 Mountain Ranch Road in San Andreas CA 95249.

• Community Development Department at 104 Oak Street in Brentwood CA 94513.

• City Hall at 708 3rd Street in Brentwood CA 94513.

• Brentwood Library at 751 3rd Street in Brentwood CA 94513.

• Antioch Library in 501 West 18th Street in Antioch CA 95409.

• Antioch Planning Department at Third and H Street in Antioch CA 94531.

• City Clerk/Records Department at 65 Civic Avenue in Pittsburg CA 94565.

• Pittsburg Library at 80 Power Avenue in Pittsburg CA 94565.

• Contra Costa County Public Library at 1664. N. Broadway in Walnut Creek CA 94596.

Dated: September 27, 2000.
Lester A. Snow,
Regional Director.

[FR Doc. 00-25341 Filed 10-2-00; 8:45 am]

BILLING CODE 4310-MN-P